COMMISSION ON CIVIL RIGHTS

Agenda and Notice of Public Meeting of the Pennsylvania Advisory Committee

Notice is hereby given, pursuant to the provisions of the rules and regulations of the U.S. Commission on Civil Rights, that a press conference and briefing session of the Pennsylvania Advisory Committee will convene at 9:30 a.m. and adjourn at 3:30 p.m. (e.d.t.) on Thursday, June 26, 2003, at the City Council Chambers, City-County Building, 414 Grant Street, Pittsburgh, Pennsylvania 15219. The Advisory Committee will hold a press conference to promote the dissemination in the Pittsburgh region of its report, Barriers Facing Minority and Women Owned Businesses in Pennsylvania, released in Philadelphia in August 2002. The Committee will also hold a briefing session with community representatives, state and local officials, and minority- and women-owned business owners to discuss issues raised in the report that are unique to the Pittsburgh/Allegheny county area.

Persons desiring additional information, or planning a presentation to the Committee, should contact Marc Pentino of the Eastern Regional Office at 202-376-7533 (TDD 202-376-8116). Hearing impaired persons who will attend the meeting and require the services of a sign language interpreter should contact the Regional office at least ten (10) working days before the scheduled date of the meeting.

The meeting will be conducted pursuant to the provisions of the rules and regulations of the Commission.

Dated in Washington, DC, June 5, 2003.
Ivy L. Davis,
Chief, Regional Programs Coordination Unit.

[FR Doc. 03-14945 Filed 6-12-03; 8:45 am]

BILLING CODE 6335-01-P